EQUAL EMPLOYMENT OPPORTUNITY COMMISSION

Performance Review Board Appointment of Members

AGENCY: Equal Employment Opportunity Commission.

ACTION: Notice.

SUMMARY: This notice announces the appointment of those individuals who have been selected to serve as members of the Performance Review Board (PRB). The PRB reviews and makes recommendations concerning proposed performance appraisals, ratings, bonuses, pay adjustments, and other appropriate personnel actions for incumbents of Senior Level and Senior Executive Service positions at the EEOC.

DATES: Effective November 1, 2025.

FOR FURTHER INFORMATION CONTACT: Jennifer Blank, Director, at (202) 921-3090 or jennifer.blank@eeoc.gov, Recruitment and Executive Resources Division, Office of the Chief Human Capital Officer, U.S. Equal Employment Opportunity Commission. Requests for this document in an alternative format should be made to the EEOC's Office of Communications and Legislative Affairs at (202) 921-3191 (voice), 1-800-669-6820 (TTY), or 1-844-234-5122 (ASL video phone).

SUPPLEMENTARY INFORMATION: In accordance with 5 U.S.C. 4314(c)(4), the names and position titles of the EEOC PRB members are set forth below:

Christine Park-Gonzalez (Chair), Director, Los Angeles District

Thomas Colclough, Director, Office of Field Programs

Gregory Gochanour, Regional Attorney

Marcus Keegan, Regional Attorney

Elisa Krobot, Chief Financial Officer

Raymond Peeler, Associate Legal Counsel

Amanda Smith, Director, Office of Communications and Legislative Affairs

Kimberly Essary, Associate Legal Counsel (Alternate)

Lisa Morelli, Director, Field Management Programs (Alternate)

Jennifer Blank,
Director, Recruitment and Executive Resources Division, Office of the Chief Human Capital Officer.

[FR Doc. 2025-18035 Filed 9-17-25; 8:45 am]

BILLING CODE 6570-01-P